DEPARTMENT OF THE INTERIOR

Bureau of Land Management

[LLORN00100.L63340000.PH0000.17XL1116AF.LXSSH1020000.HAG 17-0069]

Notice of Public Meeting for the Northwest Oregon Resource Advisory Council

AGENCY: Bureau of Land Management, Interior.

ACTION: Notice of public meeting.

SUMMARY: In accordance with the Federal Land Policy and Management Act and the Federal Advisory Committee Act, the Bureau of Land Management's (BLM) Northwest Oregon Resource Advisory Council (RAC) will meet as indicated below.

DATES: The RAC will meet on Thursday, March 16, 2017 from 9:00 a.m. to 5:00 p.m.

ADDRESSES: The meeting will be held at the BLM Northwest Oregon District Office, 1717 Fabry Rd SE., Salem, OR 97306. The RAC members will consider recreation-related subcommittee work and approve a new Chairperson among other topics. Members of the public will have the opportunity to make comments to the RAC during a public comment period at 12:00 p.m. The public also may send written comments to the RAC at the Northwest Oregon District Office, 1717 Fabry Road SE., Salem, OR 97306.

FOR FURTHER INFORMATION CONTACT: Jennifer Velez, Coordinator for the Northwest Oregon RAC, 1717 Fabry Road SE., Salem, OR 97306, (541) 222-9241, jvelez@blm.gov. Persons who use a telecommunications device for the deaf (TDD) may call the Federal Relay Service at 1(800) 877-8339 to contact the above individuals during normal business hours. The service is available 24 hours a day, 7 days a week, to leave a message or question with the above individuals. You will receive a reply during normal business hours.

SUPPLEMENTARY INFORMATION: The fifteen-member Northwest Oregon RAC was chartered to serve in an advisory capacity concerning the planning and management of the public land resources located within the BLM's Northwest Oregon District. Members represent an array of stakeholder interests in the land and resources from within the local area and statewide. All advisory council meetings are open to the public. Persons wishing to make comments during the public comment period of the meeting should register in person with the BLM, at the meeting location, preceding that meeting day's public comment period. Depending on the number of persons wishing to comment, the length of comments may be limited. The public may also send written comments to the RAC at the Northwest Oregon District Office, 1717 Fabry Road SE., Salem, OR 97306. The BLM appreciates all comments.

Richard T. Cardinale,
Acting Assistant Secretary, Land and Minerals Management.

[FR Doc. 2017-02354 Filed 2-2-17; 8:45 am]

BILLING CODE 4310-33-P